DEPARTMENT OF TRANSPORTATION

Federal Highway Administration

[FHWA Docket No. FHWA-2006-24902]

Preliminary List of Nationally and Exceptionally Significant Features of the Federal Interstate Highway System

AGENCY: Federal Highway Administration (FHWA), DOT.

ACTION: Notice; request for comments.

SUMMARY: The FHWA is seeking public input on preliminary list of elements to be excluded from exemptions of the Interstate Highway System from consideration as historic property under the provisions of section 106 of the National Historic Preservation Act and section 4(f) of the Department of Transportation Act of 1966.¹ This list is available at http://www.environment.fhwa.dot.gov/histpres/index.asp. This notice contains a link to and the process for interested members of the public to comment on the preliminary list of elements to be excluded from the respective exemptions of the Interstate Highway System from consideration as historic property under the authorities cited above. Comments received from the public will be factored into development of a final list of exceptional elements of the Interstate System.

¹ Section 4(f) of the Department of Transportation Act of 1966 was technically repealed in 1983 when it was codified without substantive change at 49 U.S.C. 303. A provision with the same meaning is found at 23 U.S.C. 138 and applies only to FHWA actions. We continue to refer to section 4(f) as such because it would create needless confusion to do otherwise; the policies section 4(f) engendered are widely referred to as “Section 4(f)” matters.

DATES: Comments must be received on or before July 17, 2006.

ADDRESSES: Mail or hand deliver comments to the U.S. Department of Transportation, Dockets Management Facility, Room PL-401, 400 Seventh Street, SW., Washington, DC 20590, or submit electronically at http://dms.dot.gov or fax comments to (202) 493-2251. All comments should include the docket number that appears in the heading of this document. All comments received will be available for examination and copying at the above address from 9 a.m. to 5 p.m., e.t., Monday through Friday, except Federal holidays. Those desiring notification of receipt of comments must include a self-addressed, stamped postcard or may print the acknowledgment page that appears after submitting comments electronically. Anyone is able to search the electronic form of all comments received into any of our dockets by the name of the individual submitting the comment (or signing the comment, if submitted on behalf of an association, business, labor union, etc.). Persons making comments may review DOT's complete Privacy Act Statement in the Federal Register published on April 11, 2000 (Volume 65, Number 70, Pages 19477-78), or may visit http://dems.dot.gov.

FOR FURTHER INFORMATION CONTACT: MaryAnn Naber, HEPE, (202) 366-2060; Federal Highway Administration; 400 7th Street, SW., Washington, DC 20590; Harold Aikens, Office of the Chief Counsel, HCC-30, (202) 366-0791; Federal Highway Administration, 400 Seventh Street, SW., Washington, DC 20590-0001. Office hours are from 7:45 a.m. to 4:15 p.m., e.t., Monday through Friday, except Federal holidays.

SUPPLEMENTARY INFORMATION:

Electronic Access and Filing

You may submit or retrieve online through the Document Management system (DMS) at: http://dmses.dot.gov/submit. The DMS is available 24-hours each day, 365 days each year. Electronic submission and retrieval help and guidelines are available under the help section of the Web site.

An electronic copy of this document may be downloaded by using the Internet to reach the Office of the Federal Register's home page at http://www.archives.gov and the Government Printing Office's Web site at http://www.access.gpo.gov/nara.

I. Background

Section 106 requires that Federal agencies take into account the effect of their actions on historic properties and afford the Advisory Council on Historic Preservation (ACHP) an opportunity to comment on those effects. Historic properties are defined as those either listed on or eligible for inclusion in the National Register of Historic Places (National Register).² Section 4(f) mandates that DOT agencies may not use historic sites, among other protected resources, unless there is no prudent and feasible alternative. As the Dwight D. Eisenhower National System of Interstate and Defense Highways (Interstate System) approached the 50th Anniversary, some of its elements were already at least 50 years of age and large sections would soon be achieving that mark at which resources are often evaluated for historic significance. The potential for vast sections of the Interstate System to be considered historic raised the issue of an overwhelming administrative burden for the myriad routine undertakings affecting the Interstate System, even for basic maintenance and improvements. Accordingly, on February 18, 2005, the ACHP adopted the Section 106 Exemption Regarding Effects to the Interstate Highway System.³ This exemption effectively excludes the majority of the 46,700-mile Interstate System from consideration as a historic property under section 106 of the National Historic Preservation Act (NHPA). In addition, the recently enacted Safe, Accountable, Flexible, Efficient Transportation Equity Act: A Legacy for Users (SAFETEA-LU) re-authorization legislation (Pub. L. 109-59, August 10, 2005) includes a provision (Section 6007) that exempts the bulk of the Interstate Highway System from consideration as a historic property under section 4(f) of the Department of Transportation Act. With these two exemptions in place, all Federal agencies are no longer required to consider the vast majority of the Interstate Highway System as historic property under section 106 and section 4(f) requirements.

² The National Register of Historic Places is the Nation's official list of cultural resources worthy of preservation. Authorized under the National Historic Preservation Act of 1966, the National Register is part of a national program to coordinate and support public and private efforts to identify, evaluate, and protect our historic and archeological resources. Properties listed in the Register include districts, sites, buildings, structures, and objects that are significant in American history, architecture, engineering, and culture. The National Park Service administers the National Register.

³ The ACHP's approved exemption was published in the Federal Register on March 10, 2005, at 70 FR 11928.

Highways comprising the Interstate Highway System are denoted by the official red, white, and blue, or green and white in Alaska, Interstate Highway System shield.⁴ All facilities within the right-of-way of these highways (e.g., road bed, engineering features, bridges, tunnels, rest stops, interchanges, off-ramps, on-ramps, etc.) are considered to be part of the Interstate Highway System. Other highways (e.g., U.S. routes, State routes, etc.) not designated with the official shield are not part of the Interstate Highway System, and therefore are not eligible for either exemption.

⁴ See Section 2D.11 of the Manual on Uniform Traffic Control Devices (MUTCD) for more information about the design of route signs. The MUTCD is available at the following URL: http://mutcd.fhwa.dot.gov/pdfs/2003/pdf.index.htm.

Under Section II of the ACHP's section 106 exemption, certain elements of the Interstate Highway System, such as bridges, tunnels, and rest stops, shall be excluded from the exemption's provisions if they have national and/or exceptional historic significance. Section III of the ACHP's section 106 exemption sets forth the criteria by which the FHWA shall identify these elements in consultation with stakeholders in each State. Section 6007 of SAFETEA-LU (codified at 23 U.S.C. 103(c)(5)) adopts by reference the same process for identifying exclusions to the section 4(f) exemption. Elements identified for exclusion will continue to be subject to the requirements of sections 106 and 4(f). It does not mean that the excluded facilities cannot be modernized, rehabilitated, expanded or replaced after appropriate consideration under the aforementioned statutes.

II. Process

The ACHP's section 106 exemption directed FHWA, at the headquarters level, to work with stakeholders at the State and local levels, to compile a list of excluded elements prior to the 50th Anniversary of the Interstate Highway System on June 29, 2006. The criteria set forth in the language of the respective exemptions were used to guide the process of identifying Interstate Highway System elements that should remain subject to section 106 and 4(f) requirements. Also, to assist in the process, the FHWA commissioned preparation of a historic context report for the Interstate Highway System (Interstate Historic Context Report). This report provides a detailed history of the evolution, development of design standards, and construction of the Interstate Highway System. It explains how the Interstate Highway System is significant within the areas of engineering, transportation, social history, and commerce, and it provides some specific examples of elements that are important within these areas. The draft context report is available at: http://www.environment.fhwa.dot.gov/histpres/index.asp.

III. Exclusion Criteria

Individual elements that are excluded from the exemptions may include bridges, tunnels, rest areas, medians, interchanges, ramps, highway segments, culverts, pedestrian overcrossings, lookout sites, visitor centers, retaining walls, signage, lighting, toll booths, and landscaping that are part of the Interstate Highway System. Elements must possess adequate integrity to convey their importance within the appropriate area(s) of significance: Engineering, transportation, social history, or commerce. In addition, per Section III of the ACHP's section 106 exemption, elements must meet at least one of the following criteria:

1. National Significance. The element is at least 50 years old and meets the National Register criteria ⁵ for national significance as defined in 36 CFR 65.4. In particular, the quality of national significance is ascribed to resources that possess exceptional value or quality in illustrating or interpreting the heritage of the United States in history, architecture, archeology, engineering, and culture and that possess a high degree of integrity.

⁵ Information on the National Register standards for evaluating the significance of properties and its criteria for listing may be found at the following URL: http://www.cr.nps.gov/nr/listing.htm.

2. Exceptional Significance. The element is less than 50 years old and meets the National Register criteria consideration for exceptional importance. The first step in evaluating properties of recent significance is to identify the appropriate area(s) of significance: engineering, transportation, social history, or commerce. Then, deliberate and distinct justification for the “exceptional importance” of the resource must be made. The phrase “exceptional importance” may be applied to the element's extraordinary impact on an event or for the quality of its design or because it may be one of very few survivors of a resource type. Standard design elements, by their very nature, are not exceptional.

3. Listed or Determined Eligible by the Keeper. The element is listed in the National Register or has previously been determined eligible by the Keeper of the National Register.

4. State or Local Significance. At the discretion of the FHWA, elements may be included in the list of excluded elements if they are at least 50 years old, were later incorporated into the Interstate Highway System, and meet the National Register criteria for evaluation as defined in 36 CFR 60.4 at the State or local level of significance.

IV. Methodology

The FHWA identified exceptional elements for the preliminary list by soliciting input and conducting facilitated meetings with key representatives from each State and the District of Columbia. The details of this process are described in the following paragraphs.

Points of contact from the FHWA Division Offices, Departments of Transportation (DOTs), and State Historic Preservation Offices (SHPOs) were identified within each of the 50 States and the District of Columbia. Where possible, contacts also were identified within organizations capable of providing additional information relevant to this process (e.g., facility owners, local, State, or national road-related historical groups).

Guidance materials for applying the criteria detailed above were prepared and distributed to the points of contact identified within each State. These materials included representative examples of property types and individual historic elements. After distributing the guidance materials and appropriate background information to each State's “team” of representatives, FHWA held State-by-State conference calls, inviting pertinent points of contact identified within each State to participate. These calls were facilitated by qualified cultural resource management specialists and were intended to: (a) Ensure that all team members understood the details of the exemptions and the criteria for identifying potentially significant elements; and (b) provide a forum for brainstorming for potential elements within the State that merited consideration for exclusion. In cases where all points of contact were not able to participate in the initial conference call, absent individuals were contacted separately by phone and provided with meeting minutes to keep them apprised of the project and any relevant discussions.

Following the initial round of 51 conference calls, each State team was given several weeks to collaborate and determine whether there was consensus on a list of elements to be excluded from the exemptions. As necessary, the FHWA provided support to conduct limited research on potentially significant elements. Teams were asked to provide the FHWA with standardized information for each of the resources identified in their lists including, location (Interstate number and milepost and/or crossing), name of resource, property type, year(s) of construction, level of significance (national, State, or local), and nature of significance for inclusion in the list. In addition, teams were asked to provide brief justifications of significance for each element on the list. As expected by the FHWA, some States were unable to identify any Interstate Highway System elements that strongly convey a particular area of significance at a level of exceptional or national importance.

V. Public Participation

Based on the lists submitted by each State, the FHWA compiled a preliminary national list of elements to be excluded from the exemptions. This draft list is available at the following URL: http://www.environment.fhwa.dot.gov/histpres/index.asp. Through public input and stakeholder involvement, the FHWA intends to refine the preliminary list of exceptional Interstate System elements. The draft list will be e-mailed to all stakeholders who participated in the process of identifying historic elements, as well as any additional individuals or organizations identified by the FHWA Division Offices, State DOTs, and SHPOs as having an interest. The FHWA is interested in feedback concerning the following specific aspects of the preliminary list:

• Whether it should include additional elements, which would continue to be considered as historic properties under the provisions of section 106 and section 4(f).

• Whether certain sites should be excluded from the final list based on application of the stated criteria.

Considerable stakeholder input has already been received and taken into consideration in developing this preliminary list. In addition, the section 106 exemption, which was previously published in the Federal Register and subject to public comments, requires the FHWA to designate, by June 30, 2006, individual elements on the Interstate System that will continue to be considered under section 106. Accordingly, the FHWA believe that a 30-day comment period for input from the general public at this time is deemed to be adequate. Commenters should submit comments as indicated above under SUPPLEMENTARY INFORMATION.

Authority: 23 U.S.C. 103(c)(5)(B); Sec. 6007, Public Law 109-59.

Issued on: June 12, 2006.
J. Richard Capka,
Federal Highway Administrator.

[FR Doc. E6-9454 Filed 6-15-06; 8:45 am]

BILLING CODE 4910-22-P